DEPARTMENT OF STATE

[Public Notice 5385]

Shipping Coordinating Committee; Notice of Meeting

The Shipping Coordinating Committee (SHC) will conduct an open meeting from 10 a.m. until 11 a.m. on Thursday, June 1, in Room 4420, at U.S. Coast Guard Headquarters, 2100 Second Street, SW., Washington, DC 20593-0001. The purpose of the meeting is to finalize preparations for the 56th Session of the Technical Co-operation Committee and the 96th Session of the Council of the International Maritime Organization (IMO), which are scheduled for June 13-23, at the IMO Headquarters in London. Discussion will focus on papers received and draft U.S. positions.

Items of particular interest include:

—Reports of Committees;

—Resource Management;

—Reports and financing of the Integrated Technical Co-operation Programme; and

—Strategy and planning.

Members of the public may attend these meetings up to the seating capacity of the room. Interested persons can obtain information by writing: Director, International Affairs, U.S. Coast Guard Headquarters, Commandant (G-CI), room 2114, 2100 Second Street, SW., Washington, DC 20593-0001 or by calling: (202) 267-2280.

Dated: April 27, 2006.
Clay Diamond,
Executive Secretary, Shipping Coordinating Committee, Department of State.

[FR Doc. E6-7578 Filed 5-17-06; 8:45 am]

BILLING CODE 4710-09-P